DEPARTMENT OF ENERGY

Federal Energy Regulatory Commission

[Project No. 77-298; Project No. 77-285]

NOI Parties; Notice Soliciting Scoping Comments

Take notice that the following hydroelectric application has been filed with Commission and is available for public inspection:

a. Type of Application: Major, new license.

b. Project Nos.: P-77-298; P-77-285.

c. Date filed: June 28, 2019.

d. Applicant: NOI Parties (the NOI Parties are proxies for a new Regional Entity that ultimately would be the license applicant for the project. The Regional Entity has not yet been formed under California law, but once formed, the Regional Entity would supplant the NOI Parties in this Integrated Licensing Process [ILP] proceeding. The NOI Parties are Mendocino County Inland Water Agency and Power Commission; Sonoma County Water Agency; California Trout, Inc.; County of Humboldt, California; and the Round Valley Indian Tribes).

e. Name of Project: Potter Valley Project.

f. Location: On the Eel and East Fork Russian Rivers in Lake and Mendocino Counties, California, about 15 miles northeast of the City of Ukiah. The existing 9.959-megawatt (MW) Potter Valley Project occupies lands owned by Pacific Gas and Electric Company (2,328 acres), National Forest System Lands administered by the United States Forest Service, Mendocino National Forest (1,146 acres), and privately-owned lands (41 acres).

g. Filed Pursuant to: Federal Power Act, 16 U.S.C. 791a—825u.

h. Applicant Contacts: Grant Davis, General Manager, Sonoma County Water Agency, 404 Aviation Boulevard, Santa Rosa, CA 95403, (707) 547-1900, Grant.Davis@scwa.ca.gov; Janet Pauli, Chair, Mendocino County Inland Water and Power Commission, P.O. Box 1247, Ukiah, CA 95482, (707) 743-1173, pauli@mendoiwpc.com; Curtis Knight, Executive Director, California Trout, 360 Pine Street, 4th Floor, San Francisco, CA 94104, (415) 392-8887, cknight@caltrout.org; and Hank Seemann, Deputy Director—Environmental Services, Humboldt County Public Works Department, 1106 Second Street, Eureka, CA 95501, (707) 268-2680, hseemann@co.humboldt.ca.us.

i. FERC Contact: Quinn Emmering, quinn.emmering@ferc.gov, 202-502-6382.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC 61,076 (2001).

k. Please note that on April 6, 2017, Pacific Gas and Electric Company (PG&E) initiated the Commission's Integrated Licensing Process (ILP) to relicense the Potter Valley Project by filing, pursuant to 18 CFR 5.6, a Notice of Intent (NOI) and Pre-Application Document (PAD), which included a proposed process plan and schedule. However, on January 25, 2019, PG&E filed a notice of withdrawal indicating that it was discontinuing its efforts to relicense the project, which became effective on February 11, 2019. As a result, on March 1, 2019, the Commission issued a Notice Soliciting Applications for interested applicants to file NOIs, PADs, and requests to complete the pre-filing stages of the relicensing process.

On June 28, 2019, the NOI Parties filed a NOI to seek a new license for the project and that it incorporates by reference PG&E's PAD as part of the project record as all the general information on the existing project is the same. On August 1, 2019, the Commission issued a public notice of the NOI Parties' intent to continue the ILP initiated by PG&E and file a final license application by April 14, 2022. On May 13, 2020, the NOI Parties filed a Feasibility Study Report, which includes information on the proposed Regional Entity to operate and maintain the project and its proposed changes to project facilities and operations from what PG&E originally proposed. Therefore, in addition to the Feasibility Study Report and NOI, participants should also refer to PG&E's PAD for general information about existing project facilities, project operations, and environmental resources in the project area.

l. Deadline for filing scoping comments: August 27, 2020.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-77-298.

The Commission's Rules of Practice and Procedure require all interveners filing documents with the Commission to serve a copy of that document on each person on the official service list for the project. Further, if an intervener files comments or documents with the Commission relating to the merits of an issue that may affect the responsibilities of a particular resource agency, it must also serve a copy of the document on that resource agency.

m. This application is not ready for environmental analysis at this time.

n. The Potter Valley Project stores winter runoff from the upper Eel River Basin and annually diverts an average of approximately 60,000 acre-feet of Eel River water into the Russian River to generate hydroelectric power, provide water to local water users, and meet regulatory streamflow requirements for the Eel River and East Branch Russian River.

Existing project facilities include: (1) Lake Pillsbury, a 2,275-acre storage reservoir with a current storage capacity of 76,876 acre-feet at normal maximum water surface elevation (NMWSE) of 1,828.3 feet impounded by Scott Dam on the Eel River; (2) Scott Dam, a 130-foot-high, 805-foot-long, concrete gravity dam with an ogee-shaped, overflow spillway structure with five 32-foot-wide, 10-foot-high, radial gates, and 26 10-foot-high, 7.5- to 10-foot-wide, steel slide gates; (3) a 72-inch-diameter, riveted-steel outlet pipe passing through Scott Dam at invert elevation 1,730.3 feet, controlled by a 42-inch Lauren-Johnson needle valve that releases water downstream into the Eel River; (4) Van Arsdale Reservoir, a 106-acre reservoir at NMWSE of 1,494.3 feet with a current storage capacity of 390 acre-feet impounded by Cape Horn Dam on the Eel River; (5) Cape Horn Dam, consisting of a 60-foot-high, 237-foot-long, earthfill section and a 63-foot-high, 283-foot-long, concrete, gravity overflow spillway section with the crest at 1,490.3 feet msl elevation; (6) release gates at the center of the dam passing water downstream through a 434-foot-long, pool-and-weir type fish ladder that rises a vertical distance of 400 feet for anadromous fish passage to the Eel River and its tributaries; (7) Van Arsdale intake diversion structure, that includes fish screens and a fish return channel, diverting water from the Eel River about 400 feet upstream of Cape Horn Dam; (8) a trans-basin diversion system comprised of a 5,826-foot-long tunnel, a 457-foot-long conduit, an 807-foot-long tunnel, and a 367-foot-long conduit that conveys water to the penstocks; (9) a butterfly valve house and penstock bypass channel to maintain flows in the East Branch Russian River during powerhouse outages; (10) a 1,793-foot-long, steel penstock and a 1,812-foot-long steel penstock supplying water to the powerhouse; (11) a powerhouse with three Francis turbine generating units with installed capacities of 4.4 MW, 2.559 MW, and 3.060 MW; (12) a 85-foot-long tailrace that receives water from the powerhouse and discharges to either non-project canals operated by the Potter Valley Irrigation District or to a 6,325-foot-long project canal that flows into the East Fork Russian River; (13) a switchyard; (14) recreation facilities consisting of five family campgrounds, two group campgrounds, and several day-use facilities; and (15) appurtenant facilities. The project has a total installed capacity of 9.959 MW and, under current operation (since 2007), an average annual generation of 19,900 megawatt-hours (MWh).

The NOI Parties propose to: (1) remove Scott Dam and Lake Pillsbury to restore anadromous fish passage and riparian and aquatic habitat on the Eel River; (2) modify the Van Arsdale intake structure to increase diversion capacity to improve water supply reliability to the Russian River and power generation capacity, and to reduce the risk of fish entrainment; (3) modify fish passage facilities at Cape Horn Dam to improv upstream and downstream fish passage; and (4) modify project operations to reflect a seasonal diversion from the Eel River to the Russian River Basin to reduce environmental impacts in the river basins.

o. In addition to publishing the full text of this document in the Federal Register. The Commission provides all interested persons an opportunity to view and/or print the contents of this document via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

p. You may also register online at https://ferconline.ferc.gov/FERCOnline.aspx to be notified via email of new filings and issuances related to this or other pending projects. For assistance, contact FERC Online Support.

q. Scoping Process: The Commission intends to prepare an Environmental Impact Statement (EIS) for the Potter Valley Project in accordance with the National Environmental Policy Act. The EIS will consider both site-specific and cumulative environmental impacts and reasonable alternatives to the proposed action.

Commission staff does not anticipate holding a formal public or agency scoping meeting at this time. Instead, we are soliciting comments, recommendations, and information on Scoping Document 3 (SD3) issued on July 28, 2020.

Copies of SD3 outlining the subject areas to be addressed in the EIS were distributed to the parties on the Commission's mailing list and to the NOI Parties' distribution list. The SD3 may be viewed on the Commission's website using the eLibrary link (see item o above).

Dated: July 28, 2020.
Nathaniel J. Davis, Sr.,
Deputy Secretary.

[FR Doc. 2020-16811 Filed 7-31-20; 8:45 am]

BILLING CODE 6717-01-P